COMMITTEE FOR THE IMPLEMENTATION OF TEXTILE AGREEMENTS

Entry of Shipments of Cotton, Wool, Man-Made Fiber, Silk Blend and Other Vegetable Fiber Textiles and Apparel in Excess of 2004 Agreement Limits or Certain China Safeguard Limits

December 9, 2004.

AGENCY: The Committee for the Implementation of Textile Agreements (CITA).

ACTION: Directive to Commissioner, Customs and Border Protection.

FOR FURTHER INFORMATION CONTACT: Ross Arnold, International Trade Specialist, Office of Textiles and Apparel, U.S. Department of Commerce, (202) 482-3400.

SUPPLEMENTARY INFORMATION:

Authority: Executive Order 11651 of March 3, 1972, as amended; Section 204 of the Agricultural Act of 1956, as amended (7 U.S.C. 1854).

In a Federal Register Notice published on June 25, 2004, CITA announced that it had come to CITA's attention that some textile and apparel products may be shipped in excess of agreed quota limits in 2004 with the expectation that those shipments will be allowed entry upon the expiration of the limits, and CITA noted that shipments exported in excess of agreed limits are a violation of the terms of those agreements. (69 FR 35586) In that Notice, CITA expressly reserved the right to deny entry to goods that have been shipped in excess of agreed limits or to stage entry for goods exported in excess of agreed limits. In order to carry out those agreements, including the World Trade Organization (WTO) Agreement on Textiles and Clothing (ATC), the Report of the Working Party on the Accession of China to the WTO (Accession Agreement), and certain bilateral textile agreements with countries that are not Members of the WTO, CITA is directing the Commissioner, Customs and Border Protection, to stage entry of goods exported in 2004 in excess of ATC, Accession Agreement, or bilateral textile agreement limits.

For all shipments exported in 2004 that exceed the applicable 2004 agreed quota limit from WTO Members and from countries with bilateral textile agreements expiring on December 31 that are not WTO Members, entry will not be permitted until February 1, 2005. From February 1 through February 28, 2005, entry will be permitted to goods in an amount equal to 5 percent of the applicable 2004 base quota limit. For each succeeding month, beginning on the first day of the month and extending through the last day of the month, entry will be permitted to goods in an amount equal to 5 percent of the applicable base 2004 quota limit, until all shipments in excess of the quota limits have been entered.

For all shipments exported from China that exceed the applicable Accession Agreement safeguard limits for categories 222, 349/649, and 350/650, which apply to goods in these categories exported from China between December 24, 2003 and December 23, 2004, entry will not be permitted until January 24, 2005. From January 24 through February 23, 2005, entry will be permitted to goods in an amount equal to 5 percent of the applicable safeguard limit. For each succeeding period, beginning on the 24th of the month and extending through the 23rd of the following month, entry will be permitted to goods in an amount equal to 5 percent of the applicable base safeguard limit, until all shipments in excess of safeguard limits have been entered.

2004 quota base limits can be found on the Web at http://otexa.ita.doc.gov under “Summary of Agreements.”

James C. Leonard, III,
Chairman, Committee for the Implementation of Textile Agreements.

Committee for the Implementation of Textile Agreements

Commissioner, Customs and Border Protection, Washington, DC 20229, December 9, 2004.

Dear Commissioner: This directive provides instructions on permitting entry to goods shipped in excess of 2004 quota limits, for WTO Members or countries with expiring bilateral textile agreements, and in excess of China safeguard limits imposed in 2003.

For all shipments exported in 2004 that exceed the applicable 2004 agreed quota limit from WTO Members and from countries with bilateral textile agreements expiring on December 31 that are not WTO Members, you are directed to deny entry until February 1, 2005, subject to the following procedure. From February 1 through February 28, 2005, you are directed to permit entry to goods in an amount equal to 5 percent of the applicable 2004 base quota limit. For each succeeding month, beginning on the first day of the month and extending through the last day of the month, you are directed to permit entry to goods in an amount equal to 5 percent of the applicable base 2004 quota limit, until all shipments in excess of the quota limits have been entered.

For all shipments exported from China that exceed the applicable safeguard limits for categories 222, 349/649, and 350/650, you are directed to deny entry until January 24, 2005, subject to the following procedure. From January 24 through February 23, 2005, you are directed to permit entry to goods in an amount equal to 5 percent of the applicable safeguard limit. For each succeeding period, beginning on the 24th of the month and extending through the 23rd of the following month, you are directed to permit entry to goods in an amount equal to 5 percent of the applicable base safeguard limit, until all shipments in excess of safeguard limits have been entered.

The Committee for the Implementation of Textile Agreements has determined that this action falls within the foreign affairs exception to the rulemaking provisions of 5 U.S.C. 553(a)(1).

Sincerely,

James C. Leonard III,

Chairman, Committee for the Implementation of Textile Agreements.

[FR Doc. 04-27374 Filed 12-9-04; 2:48 pm]

BILLING CODE 3510-DS-P